DEPARTMENT OF HEALTH AND HUMAN SERVICES

Centers for Disease Control and Prevention

[30Day-14-0889]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC 20503 or by fax to (202) 395-5806. Written comments should be received within 30 days of this notice.

Proposed Project

Using Traditional Foods and Sustainable Ecological Approaches for Health Promotion and Diabetes Prevention in American Indian/Alaska Native Communities (OMB No. 0920-0889, exp. 6/30/2014)—Revision—National Center for Chronic Disease Prevention and Health Promotion (NCCDPHP), Centers for Disease Control and Prevention (CDC).

Background and Brief Description

In 2008, the CDC's Native Diabetes Wellness Program (NDWP), in consultation with American Indian/Alaska Native (AI/AN) tribal elders, issued a funding opportunity announcement (FOA) entitled, “Using Traditional Foods and Sustainable Ecological Approaches for Health Promotion and Diabetes Prevention in American Indian/Alaska Native Communities.” The Traditional Foods program was designed to build on what is known about traditional ways in order to inform culturally relevant, contemporary approaches to diabetes prevention for AI/AN communities. The program supports activities that enhance or re-introduce indigenous foods and practices drawn from each grantee's landscape, history, and culture. Example activities include the cultivation of community gardens, organization of local farmers' markets, and the dissemination of culturally appropriate health messages through storytelling, audio and video recordings, and printed materials. In addition, the program promotes physical activity initiatives, provides social support for healthy lifestyles, and supports collaboration with other agencies and programs.

Seventeen (17) tribal organizations received cooperative agreement funding under the initial FOA. Sixteen tribal organizations applied for a one-year extension that ends September 30, 2014.

CDC currently collects information from awardees about the activities supported with Traditional Foods funding. Each awardee submits a shared data elements (SDE) report to CDC through a Web-based interface. Information has been collected twice per year, in spring and fall. CDC anticipates that the spring 2014 report will be submitted to CDC under the current OMB clearance (OMB No. 0920-0889, exp. 6/30/2014). In order to receive a final report in the fall of 2014, CDC is requesting a six-month continuation of OMB approval, through approximately December 31, 2014. Because of the variety of food- and lifestyle-related programs that take place in the late spring, summer, and early fall, CDC wants to ensure complete and accurate reporting of awardee activities conducted the final months of cooperative agreement funding.

There are no proposed changes to the data collection instrument, data collection methodology, or the estimated burden per response. The SDE will continue to be submitted to CDC using Survey Monkey, an electronic Web-based interface. The estimated burden per response is two hours. Each grantee will receive a personalized advance notification letter, followed by an email with a link to the Survey Monkey site. Changes to be implemented in this Revision request include: 1) A reduction in the number of respondents, from 17 to 16, 2) a change in the frequency of reporting (only one SDE report will be received during the six-month extension period), and 3) discontinuation of the one-time retrospective data collection that was part of the initial three-year clearance request.

CDC will continue to use the SDE reports to compile a systematic, quantifiable inventory of activities, products, and outcomes associated with the Traditional Foods program. The SDE also allow CDC to analyze aggregate data for improved technical assistance and overall program improvement, reporting, and identification of outcomes; allow CDC and grantees to create a comprehensive inventory/resource library of diabetes primary prevention ideas and approaches for AI/AN communities and identify emerging best practices; and improve dissemination of success stories.

Respondents will be 16 Tribes and Tribal organizations that receive funding through the Traditional Foods program. Participation in this information collection is required for Traditional Foods program awardees. There are no costs to respondents other than their time.

The total estimated annualized burden hours are 32.

Estimated Annualized Burden Hours
Type of respondents | Form name | Number of respondents | Number of responses per respondent | Average burden per response (in hr)
AI/AN Tribal Grantees | Traditional Foods Shared Data Elements | 16 | 1 | 2

Leroy A. Richardson,
Chief, Information Collection Review Office, Office of Scientific Integrity, Office of the Associate Director for Science, Office of the Director, Centers for Disease Control and Prevention.

[FR Doc. 2014-08169 Filed 4-10-14; 8:45 am]

BILLING CODE 4163-18-P